FEDERAL COMMUNICATIONS COMMISSION

47 CFR Part 22

[WT Docket Nos. 03-103, 05-42; FCC 04-287]

Air-Ground Telecommunications Services; Correction

AGENCY: Federal Communications Commission.

ACTION: Final rule; correction.

SUMMARY: The Federal Communications Commission (“Commission”) published in the Federal Register of Wednesday, April 13, 2005, a document, wherein § 22.857 was incorrectly amended. This document corrects that amendment.

DATES: Effective May 13, 2005.

FOR FURTHER INFORMATION CONTACT: Richard Arsenault, Chief Counsel, Mobility Division, Wireless Telecommunications Bureau, at 202-418-0920 or via e-mail at Richard.Arsenault@fcc.gov.

SUPPLEMENTARY INFORMATION: This is a correction to the Commission's Report and Order portion (Report and Order) of the Commission's Report and Order and Notice of Proposed Rulemaking, FCC 04-287, in WT Docket Nos. 03-103 and 05-42, adopted December 15, 2004, and released February 22, 2005, as summarized and published at 70 FR 19293, April 13, 2005.

PART 22—[CORRECTED]

In FR Doc. 05-6948 published on April 13, 2005, (70 FR 19293) make the following correction:

On page 19310, in the first column, instruction 55 is corrected to read as follows:

55. Revise § 22.857 to read as follows:

Federal Communications Commission.
Marlene H. Dortch,
Secretary.

[FR Doc. 05-8340 Filed 4-26-05; 8:45 am]

BILLING CODE 6712-01-P